DEPARTMENT OF DEFENSE

Office of the Secretary

[Docket ID: DoD-2013-OS-0209]

Notice of Availability (NOA) for General Purpose Warehouse and Information Technology Center Construction (GPW/IT)—Tracy Site—Environmental Assessment

AGENCY: Defense Logistics Agency, DoD.

ACTION: Notice of Availability (NOA) for GPW/IT—Tracy Site—Environmental Assessment.

SUMMARY: The Defense Logistics Agency (DLA) announces the availability of an environmental assessment (EA) for the potential environmental impacts associated with the proposed action to construct a General Purpose Warehouse and Information Technology Center at Defense Distribution Depot San Joaquin, California—Tracy Site. The EA has been prepared as required under the National Environmental Policy Act (NEPA) (1969). In addition, the EA complies with DLA Regulation (DLAR) 1000.22. DLA has determined that the proposed action was not a major federal action significantly affecting the quality of the human environment within the context of NEPA. Therefore, the preparation of an environmental impact statement (EIS) is not required.

DATES: The public comment period will end 30 days after publication of this NOA in the Federal Register. Comments received by the end of the 30-day period will be considered when preparing the final version of the document. The EA is available electronically at http://www.dla.mil//Documents/GPWITCenter-TracySiteEASeptember2013.pdf.

ADDRESSES: You may submit comments to one of the following:

• Federal eRulemaking Portal: http://www.regulations.gov. Follow the instructions for submitting comments.

• Mail: Federal Docket Management System Office, 4800 Mark Center Drive, East Tower, 2nd floor, Suite 02G09, Alexandria, VA 22350-3100.

FOR FURTHER INFORMATION CONTACT: Ann Engelberger at (703) 767-0705 during normal business hours Monday through Friday, from 8:00 a.m. to 4:30 p.m. (EST) or by email: Ann.Engelberger@dla.mil.

Dated: October 28, 2013.
Aaron Siegel,
Alternate OSD Federal Register Liaison Officer, Department of Defense.

[FR Doc. 2013-25873 Filed 10-30-13; 8:45 am]

BILLING CODE 5001-06-P